DEPARTMENT OF HOMELAND SECURITY

Coast Guard

33 CFR Part 165

[Docket No. USCG-2019-0593]

Safety Zone; Recurring Events in Captain of the Port Duluth Zone—Superior Man Triathlon

AGENCY: Coast Guard, DHS.

ACTION: Notice of enforcement of regulation.

SUMMARY: The Coast Guard will enforce the safety zone regulation for the Superior Man Triathlon event in Duluth, MN from 5:30 a.m. through 8:30 a.m. on August 10, 2019. This action is necessary to protect participants and spectators during the event. During the enforcement period, entry into, transiting, or anchoring within the safety zone is prohibited unless authorized by the Captain of the Port Duluth or his or her designated on-scene representative.

DATES: The regulations in Table 1 to 33 CFR 165.94, item (11), will be enforced from 5:30 a.m. through 8:30 a.m. on August 10, 2019.

FOR FURTHER INFORMATION CONTACT: If you have questions on this document, call or email LT Abbie Lyons, Chief of Waterways Management, Coast Guard; telephone (218) 725-3818, email DuluthWWM@uscg.mil.

SUPPLEMENTARY INFORMATION: The Coast Guard will enforce the safety zone regulation for the annual Superior Man Triathlon event in 33 CFR 165.943, Table 1, item (11), from 5:30 a.m. through 8:30 a.m. on August 10, 2019 on all waters of the Duluth Harbor Basin, Northern Section in Duluth, MN within an imaginary line created by the following coordinates: 46°46′36″ N, 092°06′06″ W, moving southeast to 46°46′32″ N, 092°06′01″ W, then moving northeast to 46°46′45″ N, 092°05′45″ W, then moving northwest to 46°46′49″ N, 092°05′49″ W, and finally returning to the starting position.

Entry into, transiting, or anchoring within the safety zone is prohibited unless authorized by the Captain of the Port Duluth or his or her designated on-scene representative. The Captain of the Port Duluth or his or her on-scene representative may be contacted via VHF Channel 16.

This document is issued under authority of 33 CFR 165.943 and 5 U.S.C. 552(a). In addition to this publication in the Federal Register, the Coast Guard will provide the maritime community with advance notification of the enforcement of this safety zone via Broadcast Notice to Mariners.

Dated: July 22, 2019.
F.M. Smith,
Commander, U.S. Coast Guard, Captain of the Port Duluth.

[FR Doc. 2019-15798 Filed 7-24-19; 8:45 am]

BILLING CODE 9110-04-P